DEPARTMENT OF ENERGY

State Energy Advisory Board (STEAB)

AGENCY: Department of Energy, Office of Energy Efficiency and Renewable Energy.

ACTION: Notice of open meeting.

SUMMARY: This notice announces a meeting of the State Energy Advisory Board (STEAB). The Federal Advisory Committee Act (Pub. L. 92-463, 86 Stat. 770) requires that public notice of these meetings be announced in the Federal Register.

DATES: August 13-14, 2008.

Times: August 13, 2008, 8:30 a.m.-5 p.m. MDT and August 14, 2008, 8:30 a.m.-Noon MDT.

Location: Sheraton Denver West Hotel, 360 Union Blvd., Lakewood, CO 80228.

FOR FURTHER INFORMATION CONTACT: Gary Burch, STEAB Designated Federal Officer, Office of Commercialization and Project Management, Golden Field Office, U.S. Department of Energy, 1617 Cole Boulevard, Golden, CO 80401, Telephone 303-275-4801.

SUPPLEMENTARY INFORMATION: Purpose of the Board: To make recommendations to the Assistant Secretary for the Office of Energy Efficiency and Renewable Energy regarding goals and objectives, programmatic and administrative policies, and to otherwise carry out the Board's responsibilities as designated in the State Energy Efficiency Programs Improvement Act of 1990 (Pub. L. No. 101-440).

Tentative Agenda: Discuss renewable energy programs at the National Renewable Energy Lab (NREL), discuss how STEAB can continue to support EERE's commercialization efforts, and update members on routine business matters. A copy of the agenda may be obtained by contacting Gary Burch, the DFO.

Public Participation: The meeting is open to the public. Written statements may be filed with the Board either before or after the meeting. Members of the public who wish to make oral statements pertaining to agenda items should contact Gary Burch at the address or telephone number listed above. Requests to make oral comments must be received five days prior to the meeting; reasonable provision will be made to include requested topic(s) on the agenda. The Chair of the Board is empowered to conduct the meeting in a fashion that will facilitate the orderly conduct of business. The Public Comment Period will occur at 3 p.m. MDT on Wednesday, August 13, 2008.

Minutes: The minutes of the meeting will be available for public review and copying within 60 days on the STEAB Web site, http://www.steab.org.

Issued at Washington, DC, on July 15, 2008.
Rachel Samuel,
Deputy Committee Management Officer.

[FR Doc. E8-16593 Filed 7-18-08; 8:45 am]

BILLING CODE 6450-01-P